DEPARTMENT OF TRANSPORTATION

Federal Aviation Administration

[Docket No. FAA-2005-22020]

Environmental Impacts: Policies and Procedures; Correction

AGENCY: Federal Aviation Administration, DOT.

ACTION: Notice; request for comment; correction.

SUMMARY: The Federal Aviation Administration published a document in the Federal Register on December 20, 2005 (79 FR 75529). That notice proposed to revise FAA Order 1050.1E, Environmental Impacts: Policies and Procedures. In that notice, the FOR FURTHER INFORMATION CONTACT was inadvertently left out.

Correction

In the Federal Register of December 20, 2005, in FR Doc. 05-24132, on page 2, after the ADDRESSES section, add the following information:

FOR FURTHER INFORMATION CONTACT: Mr. Matthew McMillen, Office of Environment and Energy, FAA, 800 Independence Avenue, SW., Washington, DC 20591; Telephone (202) 493-4018.

Issued in Washington, DC, on December 21, 2005.
Carl E. Burleson,
Federal Aviation Administration, Director, Office of Environment and Energy.

[FR Doc. 05-24533 Filed 12-27-05; 8:45 am]

BILLING CODE 4910-13-M